ENVIRONMENTAL PROTECTION AGENCY

[OPP-2005-0288; FRL-7744-7]

Notice of Receipt of Requests for Amendments to Delete Uses in Certain Pesticide Registrations

AGENCY: Environmental Protection Agency (EPA).

ACTION: Notice.

SUMMARY: In accordance with section 6(f)(1) of the Federal Insecticide, Fungicide, and Rodenticide Act (FIFRA), as amended, EPA is issuing a notice of receipt of request for amendments by registrants to delete uses in certain pesticide registrations. Section 6(f)(1) of FIFRA provides that a registrant of a pesticide product may at any time request that any of its pesticide registrations be amended to delete one or more uses. FIFRA further provides that, before acting on the request, EPA must publish a notice of receipt of any request in the Federal Register.

DATES: The deletions are effective on December 5, 2005, unless the Agency receives a written withdrawal request on or before December 5, 2005. The Agency will consider withdrawal requests postmarked no later than December 5, 2005.

Users of these products who desire continued use on crops or sites being deleted should contact the applicable registrant on or before December 5, 2005.

ADDRESSES: Written withdrawal requests may be submitted electronically, by mail, or through hand delivery/courier. Follow the detailed instructions as provided in Unit I. of the SUPPLEMENTARY INFORMATION. To ensure proper receipt by EPA, it is imperative that you identify docket identification (ID) number OPP-2005-0288. in the subject line on the first page of your response.

FOR FURTHER INFORMATION CONTACT: John Jamula, Information Technology and Resource Management Division (7502C), Office of Pesticide Programs, Environmental Protection Agency, 1200 Pennsylvania Ave., NW., Washington, DC 20460-0001; telephone number: (703) 305-6426; e-mail address: Jamula.John@epa.gov.

SUPPLEMENTARY INFORMATION:

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. How Can I Get Copies of this Document and Other Related Information?

1. Docket. EPA has established an official public docket for this action under docket identification (ID) number OPP-2005-0288. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1801 S. Bell St., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

C. How and to Whom Do I Submit Written Withdrawal Requests?

1. Electronically—i. E-mail. E-mail your written withdrawal requests to: John Jamula at jamula.john@epa.gov, Attention: Docket ID Number OPP-2005-0288.

ii. Disk or CD ROM. Written withdrawal requests on disk or CD ROM may be mailed to the address in Unit I.C.2. or delivered by hand or courier to the address in Unit I.C.3., Attention: Docket ID Number OPP-2005-0288. These electronic submissions will be accepted in WordPerfect or ASCII file format. Avoid the use of special characters and any form of encryption.

2. By mail. Send your written withdrawal requests to: John Jamula, Information Technology and Resource Management (7502C), Office of Pesticide Programs, Environmental Protection Agency, 1200 Pennsylvania Ave., NW., Washington, DC 20460-0001, Attention: Docket ID Number OPP-2005-0288.

3. By hand delivery or courier. Deliver your written withdrawal requests to: Public Information and Records Integrity Branch (PIRIB), Office of Pesticide Programs (OPP), Environmental Protection Agency, Rm. 119, Crystal Mall #2, 1801 S. Bell St., Arlington, VA, Attention: Docket ID Number OPP-2005-0288. Such deliveries are only accepted during the docket's normal hours of operation as identified in Unit I.B.1.

II. What Action is the Agency Taking?

This notice announces receipt by the Agency of applications from registrants to delete uses in certain pesticide registrations. These registrations are listed in Table 1 of this unit by EPA registration number, product name, active ingredient, and specific uses deleted:

Table 1.—Registrations With Requests for Amendments to Delete Uses in Certain Pesticides
EPA Reg. No. | Product Name | Active Ingredient | Delete From Label
000004-00415 | Bonide Sevin 4F Agricultural Insecticide | Carbaryl | Poultry
000070-00165 | Kill-Ko 10% Sevin Brand Carbaryl Insecticide Dust | Carbaryl | Poultry
000100-00864 | Sentinel 40 WG | Cyproconazole | Turf Uses
000100-01061 | Reglone Dessicant | Diquat Dibromide | Gran sorghum and Soybean
000228-00068 | Riverdale Malathion 5 | Malathion | Alfalfa, Clover, Corn, Barley, Oats, Rye, Wheat, Plums, Prunes, Household Use (Indoors), Cats, Dogs, and Animal Quarters
000264-00458 | MOCAP EC Nematicide-Insecticide | Ethoprop | Lima Bean
000264-00637 | Thiodan Technical | Endosulfan | Succulent Beans, Succulent Peas, Spinach, Grapes, and Pecans
000264-00638 | Phaser 3EC Insecticide | Endosulfan | Succulent Beans, Succulent Peas, Spinach, Grapes, and Pecans
000264-00656 | Phaser 50 WP/WSB Insecticide | Endosulfan | Succulent Beans, Succulent Peas, Spinach, Grapes, and Pecans
000264-00658 | Phaser 3EC Insecticide | Endosulfan | Succulent Beans, Succulent Peas, Spinach, Grapes, and Pecans
000264-00659 | Phaser 50 WP/WSB Insecticide | Endosulfan | Succulent Beans, Succulent Peas, Spinach, Grapes, and Pecans
000432-01209 | R&M Garden&Kennel Dust 5% | Carbaryl | Poultry Uses
000432-01210 | R&M Garden&Kennel Dust 10% | Carbaryl | Poultry Uses
000432-01237 | AES Garden&Kennel Dust 10% | Carbaryl | Poultry Uses
000432-01239 | AES Garden&Kennel Dust 5% | Carbaryl | Poultry Uses
000655-00069 | Prentox Cube Resins | Rotenone | Domestic Animal Uses
000769-00574 | Sureguard Brand Sevin 80S | Carbaryl | Poultry
000769-00972 | Security Brand 50% Sevin Wettable | Carbaryl | Poultry
000829-00075 | SA 50 25% Malathion Wettable Spray Concentrate | Malathion | Beans, Broccoli, Turnip Greens, Collards, Mustard, Melons, Squash, Cucumber, Pepper, Tomatoes, and Citrus
001386-00609 | Trifluralin 4 EC Herbicide | Trifluralin | Eggplant and Lentils
005741-00012 | Metaquat Germicidal Cleaner | Zephiran | Hospital and Non-Food Contact Sanitizer
007401-00069 | Fertilome Garden Dust | Carbaryl | Poultry
010163-00055 | Prokil Dimethoate | Dimethoate | Grapes and Head Lettuce
010163-00056 | Gowan Dimethoate E267 | Dimethoate | Grapes and Head Lettuce
010163-00160 | Gowan Dimethoate 4 | Dimethoate | Grapes and Head Lettuce
010163-00169 | Imidan 70 W | Phosmet | Cotton
010163-00172 | Imidan Technical | Phosmet | Cotton
010163-00175 | Imidan 50 WSB | Phosmet | Cotton
010163-00184 | Imidan 70 WSB | Phosmet | Cotton
010163-00215 | Imidan 2.5 EC | Phosmet | Cotton
010163-00219 | MSR 50% Concentrate | Oxydemeton methyl | Field Corn, Popcor, Pears, Snap Beans, Turnips, Ornamentals Located in Interior Plantscapes, Ornamental Gardens, Parks, Golf Courses, Laws, and Grounds
010163-00220 | MSR Spray Concentrate | Oxydemeton methyl | Field Corn, Popcorn, Pears, Snap Beans, Turnips, Ornamentals Located in Interior Plantscapes, Ornamental Gardens, Parks, Golf Courses, Laws and Grounds
011678-00005 | Thionex Endosulfan Technical | Endosulfan | Succulent Beans, Succulent Peas, Spinach, Grapes, Pecans
011678-00025 | Thionex Endosulfan 35 EC | Endosulfan | Succulent Beans, Succulent Peas, Spinach, Grapes, Pecans
019713-00099 | Drexel Endosulfan 2EC | Endosulfan | Succulent Beans, Succulent Peas, Spinach, Grapes, Pecans
019713-00319 | Drexel Endosulfan Technical | Endosulfan | Succulent Beans, Succulent Peas, Spinach, Grapes, Pecans
019713-00399 | Drexel Endosulfan 3EC | Endosulfan | Succulent Beans, Succulent Peas, Spinach, Grapes, Pecans
028293-00018 | Unicorn Flea&Tick Powder #2 | Carbaryl | Poultry Uses
028293-00233 | Unicorn 6.3% Granular Carbaryl Insecticide | Carbaryl | Poultry
034704-00023 | Clean Crop Sevin 5 Bait | Carbaryl | Poultry
045728-00007 | Carbamate WDG Fungicide | Ferbam | Rough Lemon Nursery Stock, Trees, Flowers, Ornamentals
053345-00003 | Ercocide C | Sodium Chlorate | Residential and Recreational Uses
053345-00004 | Ercocide S | Sodium Chlorate | Residential and Recreational Uses
053345-00015 | Sodium Chlorate Crystal | Sodium Chlorate | Residential and Recreational Uses
053345-00016 | Sodium Chlorate Aqueous Solution | Sodium Chlorate | Residential and Recreational Uses
062719-00073 | Stinger | Clopyralid | Strawberry
066222-00062 | Thionex 50 W | Endosulfan | Succulent Beans, Succulent Peas, Spinach, Grapes, Pecans
066222-00063 | Thionex 3EC | Endosulfan | Succulent Beans, Succulent Peas, Spinach, Grapes, Pecans
066222-00064 | Thionex Technical Insecticide | Endosulfan | Succulent Beans, Succulent Peas, Spinach, Grapes, Pecans
066222-00085 | Technical Metolachlor II | Metolachlor | Turf
069874-00002 | Sodium Chlorate - High Strength Solution AG | Sodium Chlorate | Airport, Landing Fields, Commercial Equipment, Drainage System, Fencerows, Household Outdoor Premises, Industrial Outdoor, Machinery (non food) Non Agricultural Land, Ornamental Lawns, Paved Areas
069874-00003 | Sodium Chlorate Crystal | Sodium Chlorate | Airport, Landing Fields, Commercial Equipment, Drainage System, Fencerows, Household Outdoor Premises, Industrial Outdoor, Machinery (non food) Non Agricultural Land, Ornamental Lawns, Paved Areas
073049-00092 | SBP 1382/Bioallethrin (0.20% and 0.125%) APS for H&G | Bioallethrin | Food Processing Establishments
073049-00135 | Crossfire APS1 with SBP 1382 | Resmethrin, Esbiothruin, Piperonyl Butoxide | Food and Feed Areas of Tood and Feed Handling Establishments
073049-00136 | Crossfire APS2 with SBP 1382 | Resmethrin, Esbiothrin, Piperonyl Butoxide | Food and Feed Areas of Tood and Feed Handling Establishments
073049-00139 | Crossfire APS3 with SBP 1382 | Resmethrin, Esbiothrin, Piperonyl Butoxide | Food and Feed Areas of Tood and Feed Handling Establishments
073049-00142 | SBP-1382 Oil Base Insecticide Formula III | Resmethrin | Institutional Establishments
073049-00274 | Pyrenone W.B. 5-0.5 | Piperonyl Butoxide | Food Uses

Users of these products who desire continued use on crops or sites being deleted should contact the applicable registrant before December 5, 2005 to discuss withdrawal of the application for amendment. This 30-day period will also permit interested members of the public to intercede with registrants prior to the Agency's approval of the deletion.

Table 2 of this unit includes the names and addresses of record for all registrants of the products listed in Table 1 of this unit, in sequence by EPA company number.

Table 2.—Registrants Requesting Amendments to Delete Uses in Certain Pesticide Products
EPA Company no. | Company Name and Address
000004 | Bonide Products, Inc., 6301 Sutliff Rd., Oriskany, NY 13424.
000070 | Value Gardens Supply, LLC, d/b/a Garden Value Supply, PO Box 585, Saint Joseph, MO 64502.
000100 | Syngenta Crop Protection, Inc., Attn: Regulatory Affairs, PO Box 18300, Greensboro, NC 27419-8300.
000228 | Nufarm Americas Inc., 1333 Burr Ridge Parkway, Suite 125A, Burr Ridge, IL 60527-0866.
000264 | Bayer Cropscience LP, 2 T.W. Alexander Drive, Research Triangle Park, NC 27709.
000432 | Bayer Environmental Science, A Business Group of Bayer Cropscience LP, PO Box 12014, Research Triangle Park, NC 27709.
000655 | Prentiss Inc., C.B. 2000, Floral Park, NY 11001-2000.
000769 | Value Gardens Supply, LlC, d/b/a Value Garden Supply, PO Box 585, Saint Joseph, MO 64502.
000829 | Southern Agricultural Insecticides, Inc., PO Box 218, Palmetto, FL 34220.
001386 | Universal Cooperatives Inc., 1300 Corporate Center Curve, Eagan, MN 55121.
005741 | Spartan Chemical Co., Inc., 1110 Spartan Drive, Maumee, OH 43537.
007401 | Brazos Associates, Inc., Agent For: Voluntary Purchasing Group Inc., 1806 Auburn Drive, Carrollton, TX 750071451.
010163 | Gowan Co, PO Box 5569, Yuma, AZ 85366-5569.
011678 | Makhteshim Chemical Works Ltd, c/o Makhteshim-Agan of North America Inc., 4515 Falls of Neuse Rd Ste 300, Raleigh, NC 27609.
019713 | Drexel Chemical Co, PO Box 13327, Memphis, TN 38113-0327.
028293 | Unicorn Laboratories, 12385 Automobile Blvd., Clearwater, FL 33762.
034704 | Loveland Products, Inc., PO Box 1286, Greeley, CO 80632.
045728 | Taminco Inc., Attn: Jean-Michel Denis, 1950 Lake Park Drive, Smyrna, GA 30080.
053345 | Lewis & Harrison, Agent For: Erco Worldwide, 122 C St Nw Ste 740, Washington, DC 20001.
062719 | Dow Agrosciences LLC, 9330 Zionsville Rd 308/2e225, Indianapolis, IN 46268-1054.
066222 | Makhteshim-Agan of North America, 4515 Falls of Neuse Rd. Ste 300, Raleigh, NC 27609.
069874 | Delta Analytical Corp., Agent For: Nexen Chemicals USA, 7910 Woodmont Ave Ste 1000, Bethesda, MD 20814.
073049 | Valent Biosciences Corp., 870 Technology Way, Suite 100, Libertyville, IL 60048-6316.

III. What is the Agency's Authority for Taking this Action?

Section 6(f)(1) of FIFRA provides that a registrant of a pesticide product may at any time request that any of its pesticide registrations be amended to delete one or more uses. The Act further provides that, before acting on the request, EPA must publish a notice of receipt of any such request in the Federal Register. Thereafter, the Administrator may approve such a request.

IV. Procedures for Withdrawal of Request

Registrants who choose to withdraw a request for use deletion must submit the withdrawal in writing to John Jamula using the instructions in Unit I.C. The Agency will consider written withdrawal requests postmarked no later than December 5, 2005.

V. Provisions for Disposition of Existing Stocks

The Agency has authorized the registrants to sell or distribute product under the previously approved labeling for a period of 18 months after approval of the revision, unless other restrictions have been imposed, as in special review actions.

List of Subjects

Environmental protection, Pesticides and pests.

Dated: October 25, 2005.
Robert A. Forrest,
Acting Director, Information Technology and Resource Management Division, Office of Pesticide Programs.

[FR Doc. 05-21928 Filed 11-3-05; 8:45 am]

BILLING CODE 6560-50-S